DEPARTMENT OF LABOR

Occupational Safety and Health Administration

[Docket No. OSHA-2021-0013]

Pilot Study and Prospective Analyses of the Draft Revised Form 33, Safety and Health Program Assessment Worksheet; Extension of the Office of Management and Budget's (OMB) Approval of Information Collection (Paperwork) Requirements

AGENCY: Occupational Safety and Health Administration (OSHA), Labor.

ACTION: Request for public comments.

SUMMARY: OSHA solicits public comments concerning its request to extend OMB's approval of information collection requirements for OMB 1218-0280, Expiration Date: June 30, 2025, regarding the Pilot Study for 3 years (i.e., to June 30, 2028).

DATES: Comments must be submitted (postmarked, sent, or received) by March 14, 2025.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2021-0013) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance process to provide the public with an opportunity to comment on proposed and continuing information collection requirements in accordance with the Paperwork Reduction Act of 1995 (PRA) (44 U.S.C. 3506(c)(2)(A)). This program ensures that information is in the desired format, reporting burden (time and costs) is minimal, collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires OSHA to obtain such information with minimum burden upon employers, especially those operating small businesses, and to reduce to the maximum extent feasible unnecessary duplication of efforts in obtaining information (29 U.S.C. 657).

Section 7(c)(1) of the OSH Act authorizes the Secretary of Labor (Secretary) to, “with the consent of any State or political subdivision thereof, accept and use the services, facilities, and personnel of any agency of such State or subdivision with reimbursement.” Section 21(c) of the OSH Act authorizes the Secretary to “consult with and advise employers and employees . . . as to effective means of preventing occupational illnesses and injuries.”

Additionally, Section 21(d) of the OSH Act instructs the Secretary to “establish and support cooperative agreements with the States under which employers subject to the Act may consult with State personnel with respect to the application of occupational safety and health requirements under the Act or under State plans approved under section 18 of the Act.” This gives the Secretary authority to enter into agreements with the States to provide On-Site Consultation services and establish rules under which employers may qualify for a programmed inspection deferral. To satisfy the intent of these and other sections of the OSH Act, OSHA codified the terms that govern cooperative agreements between OSHA and State governments whereby State agencies provide On-Site Consultation services to private sector employers to assist them in complying with the requirements of the OSH Act. The terms were codified as the Consultation Agreement regulations (29 CFR part 1908).

The Occupational Safety and Health Administration (OSHA) is requesting approval from the Office of Management and Budget (OMB), pursuant to the Paperwork Reduction Act (PRA), for a 3 year extension of the information collection requirements for OMB Number 1218-0280, Expiration Date: June 30, 2025; to conduct validity and reliability analyses of a safety and health program (SHP) assessment worksheet, the Draft Revised Form 33 (DRF33), that will replace the current SHP Assessment Worksheet, OSHA Form 33, used by the OSHA On-Site Consultation Program (OMB Number 1218-0110; Expiration Date: February 28, 2025. Completion of the studies on the DRF33 will enable OSHA to ensure that a valid, reliable, and efficient tool is provided to On-Site Consultation programs in the fifty (50) states, the District of Columbia, and several United States territories to replace the current OSHA Form 33, thereby, enhancing the quality of consultative services.

OMB Number 1218-0280 grants OSHA approval to conduct the following studies to assess the validity and reliability of the DRF33: a pre-test (i.e., 20 consultation visits) to assess Pilot Study procedures and the information technology platform so that any issues can be corrected before launching the Pilot Study; 300 pilot study consultation visits during which 350 safety and health program assessments of small- and medium-sized business workplaces will be conducted; a Prospective Analysis conducted at least 12 months after the pilot study consultation visits to assess any impact of the DRF33 at workplaces that received pilot study consultation visits; data analyses; and a follow-up study (i.e., 30 consultation visits) to assess any updates to the DRF33 resulting from data analyses and other findings.

OSHA obtained approval for OMB Number 1218-0280 to begin the Pilot Study in July 2022. Since then, the pre-test has been completed; 326 SHP assessments have been conducted out of the total number of 350 planned assessments, during pilot study consultation visits by Consultation programs nationwide. However, the consultation visits with the SHP assessments have taken longer than initially planned. Consequently, the Prospective Analysis and data analyses have not commenced, therefore, OSHA is requesting an extension of 3 years of OMB Number 1218-0280. OSHA will continue to work to complete the Pilot Study as soon as possible.

After completing the Pilot Study OSHA will request OMB approval before implementing the DRF33 for use by state On-Site Consultation programs nationwide (to replace the current Form 33). Similarly, OSHA will seek OMB approval if any additional updates are made to the approved worksheet, following the prospective study and data analyses.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

The agency is requesting a balance of 887 burden hours to complete the remaining tasks for the pilot study from 4,974 burden hours estimated to complete the entire pilot study.

OSHA will summarize the comments submitted in response to this notice and will include this summary in the request to OMB to extend the approval of the information collection requirements.

Type of Review: Extension of a currently approved data collection.

Title: Pilot Study and Prospective Analysis of the Draft Revised Form 33, Safety and Health Program Assessment Worksheet.

OMB Control Number: 1218-0280.

Affected Public: Business and other for-profits.

Number of Respondents: 523.

Number of Responses: 810.

Frequency of Responses: Varies.

Average Time per Response: Varies.

Estimated Total Burden Hours: 887.

Estimated Cost (Operation and Maintenance): $0.

IV. Public Participation—Submission of Comments on This Notice and Internet Access to Comments and Submissions

You may submit comments in response to this document as follows: (1) electronically at https://www.regulations.gov, which is the Federal eRulemaking Portal; or (2) by facsimile (fax), if your comments, including attachments, are not longer than 10 pages you may fax them to the OSHA Docket Office at 202-693-1648. All comments, attachments, and other material must identify the agency name and the OSHA docket number for the ICR (OSHA-2021-0013). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office.

Information on using the https://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on January 3, 2025.
James S. Frederick,
Deputy Assistant Secretary of Labor for Occupational Safety and Health.

[FR Doc. 2025-00404 Filed 1-10-25; 8:45 am]

BILLING CODE 4510-26-P